DEPARTMENT OF DEFENSE

Department of the Army

Privacy Act of 1974; System of Records

AGENCY: Defense Threat Reduction Agency, DoD.

ACTION: Notice to delete systems of records; HDTRA012-Carpooling Program.

SUMMARY: The Defense Threat Reduction Agency is deleting a system of records notice from its existing inventory of records systems subject to the Privacy Act of 1974, (5 U.S.C. 552a), as amended.

DATES: This proposed action will be effective without further notice on September 9, 2005, unless comments are received which result in a contrary determination.

ADDRESSES: Freedom of Information Act/Privacy Act Officer, Defense Threat Reduction, 8725 John J. Kingman Road, Stop 6201, Fort Belvoir, VA 22060-6201.

FOR FURTHER INFORMATION CONTACT: Ms. Brenda Carter at (703) 325-1205.

SUPPLEMENTARY INFORMATION: The Defense Threat Reduction Agency systems of records notices subject to the Privacy Act of 1974, (5 U.S.C. 552a), as amended, have been published in the Federal Register and are available from the address above.

The specific changes to the records system being amended are set forth below followed by the notice, as amended, published in its entirety. The proposed amendments are not within the purview of subsection (r) of the Privacy Act of 1974, (5 U.S.C. 552a), as amended, which requires the submission of a new or altered system report.

Dated: August 4, 2005.
Jeannette Owings-Ballard,
OSD Federal Register Liaison Officer, Department of Defense.

HDTRA012

System name:

Carpooling Program (December 14, 1998, 63 FR 68736).

Reason:

The system of records is maintained under the Department of Transportation (DOT) system of records notice DOT/ALL 8, entitled “Employee Transportation Facilitation”, a Government-wide system notice.

[FR Doc. 05-15789 Filed 8-9-05; 8:45 am]

BILLING CODE 5001-06-M